DEPARTMENT OF THE INTERIOR

Bureau of Ocean Energy Management

[OMB Control Number 1010-0176; Docket ID: BOEM-2017-0016]

Agency Information Collection Activities; Submission to the Office of Management and Budget for Review and Approval; Renewable Energy and Alternate Uses of Existing Facilities on the Outer Continental Shelf

AGENCY: Bureau of Ocean Energy Management, Interior.

ACTION: Notice of information collection; request for comment.

SUMMARY: In accordance with the Paperwork Reduction Act of 1995, the Bureau of Ocean Energy Management (BOEM) is proposing this information collection request (ICR) to renew the Office of Management and Budget (OMB) Control Number 1010-0176.

DATES: Comments must be received by OMB no later than December 7, 2022.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0006 in the subject line of your comments. You may also comment by searching the docket number BOEM-2017-0016 at http://www.reginfo.gov/public/do/PRAMain.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “30 CFR part 585, Renewable Energy and Alternate Uses of Existing Facilities on the Outer Continental Shelf.”

Abstract: The ICR addresses the paperwork requirements in the regulations under “30 CFR part 585, Renewable Energy and Alternate Uses of Existing Facilities on the Outer Continental Shelf [OCS]” issued pursuant to the OCS Lands Act, as amended (43 U.S.C. 1331 et seq.). The OCS Lands Act at subsection 8(p) (43 U.S.C. 1337(p)) authorizes the Secretary of the Interior to issue leases, easements, or rights-of way on the OCS for activities that produce or support production, transportation, or transmission of energy from sources other than oil and gas, including renewable energy. Subsection 8(p) directs the Secretary to issue any necessary regulations to carry out the OCS renewable energy program. The Secretary delegated this authority to BOEM. BOEM issued regulations for OCS renewable energy activities at 30 CFR part 585; this notice concerns the reporting and recordkeeping elements required by these regulations.

Respondents are parties interested in obtaining a lease or grant for renewable energy activities on the OCS; lessees and grantees submitting plans for commercial and noncommercial renewable energy projects on the OCS, and, if such plans are approved, constructing, operating, maintaining, and decommissioning those projects; and applicants for, or holders of, rights-of-use and easement for alternate uses of existing facilities on the OCS. BOEM must ensure that these activities are carried out in a manner that provides for, among other things, safety, protection of the environment, and consideration of other OCS users. In order to execute its duties, BOEM requires information regarding potential purchasers of leases, grants, and rights-of-way; their proposed activities; their financial assurance instruments to ensure accrued obligations are met; and their payments to the U.S. Treasury.

BOEM uses forms to collect information to ensure proper and efficient administration of OCS renewable energy leases and grants and to document the financial responsibility of lessees and grantees. Forms BOEM-0002, BOEM-0003, BOEM-0004, and BOEM-0006 are used, respectively, by renewable energy entities on the OCS to assign a grant interest, assign a lease interest, relinquish a lease or grant, and designate an operator. Form BOEM-0005 is used to document a surety's guarantee of lessees' and grantees' performance. BOEM maintains the submitted forms as official lease and grant records.

OMB Control Number: 1010-0176.

Form Number:

• BOEM-0002, “Outer Continental Shelf (OCS) Renewable Energy Assignment of Grant;”

• BOEM-0003, “Assignment of Record Title Interest in Federal OCS Renewable Energy Lease;”

• BOEM-0004, “Outer Continental Shelf (OCS) Renewable Energy Lease or Grant Relinquishment Application;”

• BOEM-0005, “Outer Continental Shelf (OCS) Renewable Energy Lessee's, Grantee's, and Operator's Bond;” and

• BOEM-0006, “Outer Continental Shelf (OCS) Renewable Energy Lease or Grant Designation of Operator.”

Type of Review: Extension of a currently approved information collection.

Respondents/Affected Public: Companies interested in renewable energy-related uses on the OCS and holders of leases and grants under 30 CFR part 585.

Total Estimated Number of Annual Responses: 265 responses.

Total Estimated Number of Annual Burden Hours: 18,783 hours.

Respondent's Obligation: Mandatory or required to obtain or retain a benefit.

Frequency of Collection: On occasion or annually.

Total Estimated Annual Non-Hour Burden Cost: $3,816,000 non-hour costs. The non-hour cost burdens consist of service fees and payments to a contractor for drafting BOEM-required documents, preparing and conducting site-specific studies, and writing reports to evaluate potential causes of harm to natural resources.

Estimated Reporting and Recordkeeping Hour Burden: The estimated annual hour burden for this collection is 18,783 hours. In calculating the burden, BOEM recognized that some of its required information collections are incurred by respondents in the normal course of their activities, like compiling and maintaining business records. BOEM considers some information collection activities to be usual and customary business practices and excluded those activities from its account in estimating the burden.

A Federal Register notice with a 60-day public comment period on this proposed ICR was published on September 2, 2022 (87 FR 54250). BOEM did not receive any comments during the 60-day comment period.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Public Comment Notice: Comments submitted in response to this notice are a matter of public record and will be available for public review on www.reginfo.gov. You should be aware that your entire comment—including your address, phone number, email address, or other personally identifiable information included in your comment—may be made publicly available. Even if BOEM withholds your information in the context of this ICR, your comment is subject to the Freedom of Information Act (FOIA). If your comment is requested under the FOIA, your information will only be withheld if BOEM determines that a FOIA exemption to disclosure applies. BOEM will make such a determination in accordance with the Department of the Interior's (DOI) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

Note that BOEM will make available for public inspection all comments on www.reginfo.gov, in their entirety, submitted by organizations and businesses or by individuals identifying themselves as representatives of organizations or businesses.

BOEM protects proprietary information in accordance with FOIA (5 U.S.C. 552), DOI's implementing regulations (43 CFR part 2), and 30 CFR 585.113.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2022-24195 Filed 11-4-22; 8:45 am]

BILLING CODE 4310-MR-P